DEPARTMENT OF TRANSPORTATION

Federal Aviation Administration

14 CFR Part 39

[Docket No. FAA-2014-0717; Directorate Identifier 2014-CE-026-AD]

RIN 2120-AA64

Airworthiness Directives; Pilatus Aircraft, Ltd. Airplanes

AGENCY: Federal Aviation Administration (FAA), Department of Transportation (DOT).

ACTION: Notice of proposed rulemaking (NPRM).

SUMMARY: We propose to adopt a new airworthiness directive (AD) for all Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes that would supersede AD 2013-11-08. This proposed AD results from mandatory continuing airworthiness information (MCAI) originated by an aviation authority of another country to identify and correct an unsafe condition on an aviation product. The MCAI describes the unsafe condition as a need to incorporate new revisions into the aircraft maintenance manual or in the limitations document of the FAA-approved maintenance program. We are issuing this proposed AD to require actions to address the unsafe condition on these products.

DATES: We must receive comments on this proposed AD by November 3, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact PILATUS AIRCRAFT LTD., Customer Liaison Manager, CH-6371 STANS, Switzerland; telephone: +41 (0) 41 619 65 80; fax: +41 (0) 41 619 65 76; Internet: http://www.pilatus-aircraft.com; email: fodermatt@pilatus-aircraft.com. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2014-0717; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Comments Invited

We invite you to send any written relevant data, views, or arguments about this proposed AD. Send your comments to an address listed under the ADDRESSES section. Include “Docket No. FAA-2014-0717; Directorate Identifier 2014-CE-026-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On May 22, 2013, we issued AD 2013-11-08, Amendment 39-17468 (78 FR 37701; June 24, 2013). That AD required actions intended to address an unsafe condition on Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes and was based on mandatory continuing airworthiness information (MCAI) originated by an aviation authority of another country.

Since we issued AD 2013-11-08, Amendment 39-17468 (78 FR 37701; June 24, 2013), Pilatus Aircraft Ltd. has issued revisions to the Limitations section of the airplane maintenance manual (AFM) to incorporate new life limits for the fire extinguisher.

The European Aviation Safety Agency (EASA), which is the Technical Agent for the Member States of the European Community, has issued AD No. 2014-0181, dated July 31, 2014 (referred to after this as “the MCAI”), to correct an unsafe condition for the specified products. The MCAI states:

The maintenance instructions and airworthiness limitations applicable to the Structure and Components of PC-6 aeroplanes are specified in the Aircraft Maintenance Manual (AMM) under Chapter 4 or in the Airworthiness Limitations Document (ALS), depending on aeroplane model.

The instructions contained in the ALS document have been identified as mandatory actions for continued airworthiness and failure to comply with these instructions and limitations could potentially lead to an unsafe condition.

Pilatus Aircraft Ltd. (Pilatus) recently issued PC-6 AMM, Chapter 04-00-00, Document Number 01975 issue 19 for PC-6 B2-H2 and PC-6 B2-H4 aeroplanes and PC-6 ALS, Document Number 02334 issue 4 for all other PC-6 aeroplane models to incorporate new life limits for the Fire Extinguisher.

For the reason described above, this AD retains the requirements of EASA AD 2012-0268, which is superseded, and requires implementation of the new maintenance requirements and/or airworthiness limitations.

You may examine the MCAI on the Internet at http://www.regulations.gov by searching for and locating Docket No. FAA-2014-0717.

Relevant Service Information

Pilatus Aircraft Ltd. has issued Airworthiness Limitations, document No. 02334, dated May 31, 2014; and Airworthiness Limitations, document 04-00-00, dated May 31, 2014. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 50 products of U.S. registry. We also estimate that it would take about 8 work-hours per product to comply with the basic requirements of this proposed AD.

Based on these figures, we estimate the cost of the proposed AD on U.S. operators to be $34,000, or $680 per product.

In addition, we estimate that any necessary follow-on actions would take about 1 work-hour and require parts costing $1,000, for a cost of $1,085 per product. We have no way of determining the number of products that may need these actions.

The only costs that would be imposed by this proposed AD over that already required by AD 2013-11-08 is 1 work-hour to incorporate the new airworthiness limitations section sections into the maintenance program, $1,085 for replacement of the fire extinguisher if needed, and the addition of 35 airplanes from 15 airplanes to 50 airplanes.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing Amendment 39-17468 (78 FR 37701; June 24, 2013), and adding the following new AD:

Pilatus Aircraft Ltd.: Docket No. FAA-2014-0717; Directorate Identifier 2014-CE-026-AD.

(a) Comments Due Date

We must receive comments by November 3, 2014.

(b) Affected ADs

This AD supersedes AD 2013-11-08, Amendment 39-17468 (78 FR 37701; June 24, 2013).

(c) Applicability

This AD applies to Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes, all manufacturer serial numbers (MSN), including MSN 2001 through 2092 (see Note 1 of paragraph c), certificated in any category.

Note 1 of paragraph (c): For MSN 2001-2092, these airplanes are also identified as Fairchild Republic Company PC-6 airplanes, Fairchild Industries PC-6 airplanes, Fairchild Heli Porter PC-6 airplanes, or Fairchild-Hiller Corporation PC-6 airplanes.

(d) Subject

Air Transport Association of America (ATA) Code 5: Time Limits.

(e) Reason

This AD was prompted by mandatory continuing airworthiness information (MCAI) originated by an aviation authority of another country to identify and correct an unsafe condition on an aviation product. The MCAI describes the unsafe condition as a need to incorporate new revisions into the aircraft maintenance manual (AMM) or in the Limitations document of the FAA-approved maintenance program. The limitations were revised to incorporate new life limits for the fire extinguisher. These actions are required to ensure the continued operational safety of the affected airplanes.

(f) Actions and Compliance

(1) Actions retained from AD 2013-11-08, Amendment 39-17468 (78 FR 37701; June 24, 2013) for all Models PC-6 airplanes: If the flap actuator has accumulated 3,500 hours time-in-service (TIS) or more since new or last overhauled or 7 years or more since new or last overhauled, whichever occurs first, replacement of the flap actuator (except part numbers 978.73.14.101 and 978.73.14.103) is required within 350 hours TIS after July 29, 2013, 2013 (the effective date retained from AD 2013-11-08) or 6 months after July 29, 2013, 2013 (the effective date retained from AD 2013-11-08), whichever occurs first. Flap actuators with less than 3,500 hours TIS or 7 years since new or last overhauled are covered by the airworthiness limitations document (ALS) requirement.

(2) Actions new to this AD for all affected Models PC-6/B2-H2 and PC-6/B2-H4 airplanes: Before further flight after the effective date of this AD incorporate the maintenance requirements as specified in Chapter 04-00-00 of the AMM document number 01975, issue 19, dated May 31, 2014, of the Pilatus PC-6 Maintenance Manual; into your FAA-accepted maintenance program (maintenance manual).

(3) Actions new to this AD for all affected Models PC-6 other than the Models PC-6/B2-H2 and PC-6/B2-H4 airplanes: Before further flight after the effective date of this AD incorporate the maintenance requirements as specified in ALS document number 02334, issue 4, dated May 31, 2014, into your FAA-accepted maintenance program (maintenance manual).

(4) Actions new to this AD for all airplanes:

(i) For airplanes with Halon Fire Extinguishers that have not yet reached the 10 year life limit after the effective date of this AD, when the Halon Fire Extinguisher reaches its life limit of 10 years, before further flight, replace with an airworthy Halon Fire Extinguisher following Chapter 04-00-00 of the AMM, document number 01975, issue 19, dated May 31, 2014, of the Pilatus PC-6 Maintenance Manual; or ALS document number 02334, issue 4, dated May 31, 2014; as applicable.

(ii) For airplanes with Halon Fire Extinguishers that have reached the 10 year life limit on or before the effective date of this AD, within the next 30 days after the effective date of this AD or within the next 10 hours TIS after the effective date of this AD, whichever occurs first, replace with an airworthy Halon Fire Extinguisher following Chapter 04-00-00 of the AMM, document number 01975, issue 19, dated May 31, 2014, of the Pilatus PC-6 Maintenance Manual; or ALS document number 02334, issue 4, dated May 31, 2014; as applicable.

(iii) Repetitively, after replacing the airplanes Halon Fire Extinguisher as required in paragraphs (f)(4)(i) or (f)(4)(ii), within 10 years after each last replacement, replace with an airworthy Halon Fire Extinguisher.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to European Aviation Safety Agency (EASA) AD No.: 2014-0181, dated July 31, 2014, for related information. You may examine the MCAI on the Internet at http://www.regulations.gov by searching for and locating Docket No. FAA-2041-0717. For service information related to this AD, contact PILATUS AIRCRAFT LTD., Customer Liaison Manager, CH-6371 STANS, Switzerland; telephone: +41 (0) 41 619 65 80; fax: +41 (0) 41 619 65 76; Internet: http://www.pilatus-aircraft.com; email: fodermatt@pilatus-aircraft.com. You may review this referenced service information at the FAA, Small Airplane Directorate, 901 Locust, Kansas City, Missouri 64106. For information on the availability of this material at the FAA, call (816) 329-4148.

Issued in Kansas City, Missouri, on September 12, 2014.
Earl Lawrence,
Manager, Small Airplane Directorate, Aircraft Certification Service.

[FR Doc. 2014-22273 Filed 9-17-14; 8:45 am]

BILLING CODE 4910-13-P